ENVIRONMENTAL PROTECTION AGENCY

40 CFR Parts 52 and 81

[EPA-R08-OAR-2020-0098; FRL-10021-83-Region 8]

Approval and Promulgation of Implementation Plans; State of Utah; Salt Lake City and Provo, Utah PM2.5 Redesignations to Attainment and Utah State Implementation Plan Revisions; Availability of Supplemental Information and Reopening of the Comment Period

AGENCY: Environmental Protection Agency (EPA).

ACTION: Proposed rule; availability of supplemental information and reopening of the comment period.

SUMMARY: On November 6, 2020, the Environmental Protection Agency (EPA) published a notice of proposed rulemaking to approve redesignation of the Salt Lake City, Utah and Provo, Utah nonattainment areas (NAAs) to attainment for the 2006 24-hour fine particulate matter with an aerodynamic diameter less than or equal to a nominal 2.5 microns (PM2.5) National Ambient Air Quality Standard (NAAQS), and also acted on multiple related State Implementation Plan (SIP) submissions. We also proposed to approve SIP revisions submitted by the State of Utah on January 19, 2017; April 19, 2018; February 4 and 15, 2019; and January 13, May 21, and July 21, 2020. These SIP submissions include revisions to Utah Administrative Code (UAC) Sections R307-110, R307-200, and R307-300 Series; revisions to Utah SIP Sections X.B and E; revisions to Utah SIP Sections IX.H.11, 12, and 13; best available control measures/best available control technologies (BACM/BACT) PM2.5 determinations for Salt Lake City and Provo; maintenance plans for the Salt Lake City and Provo areas for PM2.5; and the request for redesignation under the 2006 24-hour PM2.5 standard. Additionally, the EPA proposed to approve, through parallel processing, a request to remove startup and shutdown emission limits for Kennecott's Power Plant in the Utah SIP and the accompanying R307-110-17 revisions (draft dated October 9, 2020). Due to an administrative error, two supporting documents were left out of the docket during the initial comment period from November 6, 2020 to December 7, 2020. Thus, the EPA is providing an additional 30 days for public comment on these two supporting documents. In this document, we are not requesting comments on any other part of the November 6, 2020 notice of proposed rulemaking. The EPA is taking this action pursuant to the Clean Air Act (CAA or the Act).

DATES: Written comments must be received on or before May 6, 2021.

ADDRESSES: Submit your comments, identified by Docket ID No. EPA-R08-OAR-2020-0098, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Crystal Ostigaard, Air and Radiation Division, EPA, Region 8, Mailcode 8ARD-IO, 1595 Wynkoop Street, Denver, Colorado 80202-1129, (303) 312-6602, ostigaard.crystal@epa.gov.

SUPPLEMENTARY INFORMATION: Throughout this document wherever “we,” “us,” or “our” is used, we mean the EPA.

I. What action is the EPA taking?

On November 6, 2020 (85 FR 71023), the EPA proposed to redesignate the Salt Lake City and Provo 2006 24-hour PM2.5 NAAs to attainment, and to approve multiple related SIP submissions. We proposed to approve the Governor of Utah's submittal of January 13, 2020, containing revisions to R307-110-10, and the Provo and Salt Lake City 2006 24-hour PM2.5 maintenance plans and redesignation requests. We proposed to approve the Governor of Utah's submittal of May 21, 2020, with revisions to R307-110-32, R307-110-35, Utah SIP Section X.B., and Utah SIP Section X.E, which are the inspection and maintenance (I/M) programs for Davis and Weber Counties. We also proposed to approve both maintenance plans' 2035 motor vehicle emission budgets (MVEBs). In addition, we proposed to approve a trading mechanism in each maintenance plan that would allow future increases in on-road mobile sources' direct PM2.5 emissions to be offset by future decreases in nitrogen oxide (NOX) or volatile organic compound (VOC) precursor emissions from on-road mobile sources. We proposed approval of these submissions because the Utah Division of Air Quality (UDAQ) has adequately addressed all of the requirements of the Act for the SIP revisions and the redesignation to attainment applicable to the Provo and Salt Lake City 2006 24-hour PM2.5 NAAs. We used the 2017-2019 ambient air quality data from the Provo and Salt Lake City NAAs as the basis for our decision. Upon the effective date of a subsequent final action, the designation status of the Provo and Salt Lake City areas under 40 CFR part 81 will be revised to attainment.

Additionally, we proposed to approve:

• SIP revisions submitted on January 19, 2017 (Utah SIP Section IX.H.13).

• SIP revisions submitted February 15, 2019 (Utah SIP Section IX.H.11 and 12).

• Utah's draft October 9, 2020 submission removing the startup/shutdown emission limits for the Kennecott Power Plant found in Utah SIP Section IX.H.12.i.i.C, and the accompanying R307-110-17 through a parallel process. Utah officially submitted these revisions on December 17, 2020.

• Utah UAC section R307-200 and R307-300 Series revisions and new rules submitted by UDAQ on April 19, 2018, May 21, 2020 and July 21, 2020 (R307-208, R307-230, R307-304, R307-335, R307-343, R307-344, R307-345, R307-346, R307-347, R307-348, R307-349, R307-350, R307-351, R307-352, R307-353, R307-354 and R307-355), which are intended to strengthen the SIP and to serve as BACM for certain area sources for the Utah PM2.5 SIP.

• BACM/BACT analyses for area sources, major stationary sources, on-road mobile sources, and non-road mobile sources in the Provo and Salt Lake City 2006 24-hour PM2.5 NAAs, submitted on February 4, 2019 and February 15, 2019.

We received multiple comments on the original proposal. A comment submitted on December 7, 2020 by the Sierra Club, Environmental Integrity Project (EIP), and Western Resource Advocates ¹ noted that the EPA had neglected to include an amended approval order ² and the calculation of the banked emission reduction credits ³ for the Kennecott Power Plant in the docket. As the comment noted, these documents were part of the basis for our BACM determination for Units #4 and #5 at the Kennecott Power Plant. Because of this administrative error, the EPA is providing an additional 30 days for public comment on our proposed approval of the State's BACM/BACT determination and Utah's Part H subsection for Kennecott's Power Plant Units #4 and #5. Aside from supplementing the docket with the two inadvertently omitted documents related to the Kennecott Power Plant, we are making no changes to our original November 6, 2020 proposed action. In this document, we are not requesting comments on any other part of the November 6, 2020 notice of proposed rulemaking.

¹ EPA-R08-OAR-2020-0098-0087.

² February 4, 2020; Rio Tinto Kennecott Utah Copper LLC; Approval Order: Administrative Amendment to Approval Order DAQE-AN105720031-15 to Remove Power Plant Boilers, Turbine, and Supporting Equipment. Project Number: N105720040. Available within the docket and at: https://daqpermitting.utah.gov/DocViewer?IntDocID=117327&contentType=application/pdf.

³ February 4, 2020; Rio Tinto Kennecott Utah Copper LLC; Emission Reduction Credits for Rio Tinto Kennecott Utah Copper—Utah Power Plant Project Number: N105720040. Available within the docket and also at: http://eqedocs.utah.gov and specifically at: http://eqedocs.utah.gov/TempEDocsFiles/995158151_995158151_AgencyInterest_10501-10600_10572%20-%20Rio%20Tinto%20Kennecott%20Utah%20Copper%20LLC-%20Power%20Plant%20Lab%20Tailings%20Impoundment_New%20Source%20Review_2020_DAQ-2020-001806.pdf.

We will address all pertinent comments received on this supplemental action in our final rule, as well as all pertinent comments received during the comment period on the original proposed action.

II. Incorporation by Reference

In this document, the EPA is proposing to include regulatory text in an EPA final rule that includes incorporation by reference. In accordance with requirements of 1 CFR 51.5, the EPA is proposing to incorporate by reference revisions to: R307-110-10; R307-110-17; R307-110-32; R307-110-35; R307-208; R307-230; R307-304; R307-335; R307-343; R307-344; R307-345; R307-346; R307-347; R307-348; R307-349; R307-350; R307-351; R307-352; R307-353; R307-354; R307-355; Utah SIP Section X.B.; Utah SIP Section X.E.; Utah SIP Section IX.H.11, 12, and 13; Utah SIP Section IX.A.27 (Provo 2006 24-hour PM2.5 Maintenance Plan); Utah SIP Section IX.A.36 (Salt Lake City 2006 24-hour PM2.5 Maintenance Plan); and the redesignation requests for the Provo and Salt Lake City 2006 24-hour PM2.5 NAAs to attainment. The EPA has made, and will continue to make, these materials generally available through www.regulations.gov and at the EPA Region 8 Office (please contact the person identified in the FOR FUTHER INFORMATION CONTACT section of this preamble for more information).

III. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects

40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

40 CFR Part 81

Environmental protection, Air pollution control, National parks, and Wilderness areas.

Authority: 42 U.S.C. 7401 et seq.

Dated: March 29, 2021.
Debra H. Thomas,
Acting Regional Administrator, Region 8.

[FR Doc. 2021-06844 Filed 4-5-21; 8:45 am]

BILLING CODE 6560-50-P